DEPARTMENT OF ENERGY

[GDO Docket No. EA-479-A]

Application for Renewal of Authorization to Export Electric Energy; Macquarie Energy LLC

AGENCY: Grid Deployment Office, Department of Energy.

ACTION: Notice of application.

SUMMARY: Macquarie Energy LLC (Macquarie Energy or Applicant) has applied for renewed authorization to transmit electric energy from the United States to Canada pursuant to the Federal Power Act.

DATES: Comments, protests, or motions to intervene must be submitted on or before November 18, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On November 21, 2019, DOE issued Order No. EA-479 to Macquarie Energy to transmit electric energy from the United States to Canada as a power marketer for a period of five years. On August 30, 2024, Macquarie Energy filed an application (Application or App.) for renewal of its export authority. App. at 1.

According to its Application, Macquarie Energy is a power marketer “and broker of electric power at wholesale.” Id. at 1. The Applicant states that it is “a Delaware corporation with its office and principal place of business in Houston, Texas” and “an indirect, wholly-owned subsidiary of Macquarie Group Ltd., an Australian company listed on the Australian Stock Exchange.” Id. Macquarie Energy states that “the Federal Energy Regulatory Commission [FERC] has authorized Macquarie Energy to engage in wholesale sales of electric energy, capacity, and ancillary services at market-based rates.” Id.

Macquarie Energy represents that it “does not own or control any electric power generation or transmission facilities and does not have a franchised electric power service area.” App. at 1. Macquarie Energy states it “does not have its own `system' on which its exports of energy could have a reliability or stability impact” and it “will purchase the energy to be exported from wholesale generators, electric utilities, power marketers, Independent System Operators, Regional Transmission Authorities, and federal power marketing agencies.” Id. at 2. The Applicant further states that “such energy is surplus to the system of the generator and thus, exportation of said energy will not impair the adequacy of the electric power supply within the United States.” Id. Additionally, Macquarie Energy asserts that it will comply with all applicable reliability criteria, standards, and guidelines. See id. at 3.

The existing international transmission facilities to be utilized by the Applicant have been previously authorized by Presidential permits issued pursuant to Executive Order 10485, as amended, and are appropriate for open access transmission by third parties. See id. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Macquarie Energy's Application should be clearly marked with GDO Docket No. EA-479-A. Additional copies are to be provided directly to Paul Tramonte, Macquarie Energy LLC, One Allen Center, 500 Dallas Street, Suite 3300, Houston, Texas 77002, paul.tramonte@macquarie.com; Michael A. Yuffee, Baker Botts LLP, 700 K Street NW, Washington, DC 20001, michael.yuffee@bakerbotts.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on October 10, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 15, 2024.
Jennifer Hartzell,
Alternate Federal Register Liaison Officer, U.S. Department of Energy.

[FR Doc. 2024-24117 Filed 10-17-24; 8:45 am]

BILLING CODE 6450-01-P